DEPARTMENT OF HOMELAND SECURITY

Federal Emergency Management Agency

44 CFR Part 67

[Docket ID FEMA-2010-0003; Internal Agency Docket No. FEMA-B-1131]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before December 27, 2010.

ADDRESSES: The corresponding preliminary Flood Insurance Rate Map (FIRM) for the proposed BFEs for each community is available for inspection at the community's map repository. The respective addresses are listed in the table below.

You may submit comments, identified by Docket No. FEMA-B-1131, to Roy E. Wright, Deputy Director, Risk Analysis Division, Federal Insurance and Mitigation Administration, Federal Emergency Management Agency, 500 C Street, SW., Washington, DC 20472, (202) 646-3461, or (e-mail) roy.e.wright@dhs.gov.

FOR FURTHER INFORMATION CONTACT: Roy E. Wright, Deputy Director, Risk Analysis Division, Federal Insurance and Mitigation Administration, Federal Emergency Management Agency, 500 C Street, SW., Washington, DC 20472, (202) 646-3461, or (e-mail) roy.e.wright@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Boulder County, Colorado, and Incorporated Areas
55th Street Split Flow | Approximately 350 feet upstream of Burlington Northern and Sante Fe Railroad | None | +5222 | City of Boulder, Unincorporated Areas of Boulder County.
| Just downstream of South Boulder Road | None | +5345
Dry Creek Ditch No. 2 | Approximately 800 feet upstream of the confluence with South Boulder Creek | None | +5192 | City of Boulder, Unincorporated Areas of Boulder County.
| At Arapahoe Avenue | None | +5234 |
South Boulder Creek | At the confluence with Boulder Creek | +5178 | +5175 | City of Boulder, Unincorporated Areas of Boulder County.
| Approximately 770 feet upstream of Eldorado Springs Road | None | +5820 |
West Valley Split Flow | Approximately 200 feet upstream of Burlington Northern and Santa Fe Railroad | None | +5226 | City of Boulder, Unincorporated Areas of Boulder County.
| Just downstream of Apache Road | None | +5345 |
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Boulder
Maps are available for inspection at 1739 Broadway Street, Boulder, CO 80306.
Unincorporated Areas of Boulder County
Maps are available for inspection at 1739 Broadway Street, Boulder, CO 80306,
Volusia County, Florida, and Incorporated Areas
Angela Lake | Entire shoreline | None | *28 | City of Deltona.
Dupont Lake | Entire shoreline | None | *28 | City of Deltona.
Lake Butler | Entire shoreline | None | *28 | City of Deltona, Unincorporated Areas of Volusia County.
Louise Lake | Entire shoreline | None | *28 | City of Deltona.
Outlook Lake | Entire shoreline | None | *57 | City of Deltona.
Ponding Area 5 | Ponding area bounded by I-4 to the north and west, North Firwood Drive to the south, and North Normandy Boulevard to the east | None | *44 | City of Deltona.
Ponding Area 6 | Ponding area bounded by Graves Avenue to the north, North Normandy Boulevard to the west, North Firwood Drive to the south, and West Seagate Drive to the east | None | *74 | City of Deltona.
Ponding Area 7 | Ponding area bounded by Graves Avenue to the north, North Normandy Boulevard to the west, North Firwood Drive to the south, and West Seagate Drive to the east | None | *74 | City of Deltona.
Ponding Area 8 | Ponding area bounded by I-4 to the north and west, North Gloria Drive to the south, and East Annapolis Drive to the east | None | *36 | City of Deltona.
Ponding Area 9 | Ponding area bounded by Graves Avenue to the north, North Normandy Boulevard to the west, Vicksburg Street to the south, and Utility Driveway to the east | None | *79 | City of Deltona.
Ponding Area 10 | Ponding area bounded by North Firwood Drive to the north, North Normandy Boulevard to the west, Arlene Drive to the south, and East Firwood Drive to the east | None | *79 | City of Deltona.
Ponding Area 11 | Ponding area bounded by Graves Avenue to the north, North Normandy Boulevard to the west, Vicksburg Street to the south, and Utility Driveway to the east | None | *79 | City of Deltona.
Ponding Area 12 | Ponding area bounded by Flagler Street to the north, I-4 to the west, South Annapolis Drive to the south, and East Annapolis Drive to the east | None | *36 | City of Deltona.
Ponding Area 13 | Ponding area bounded by Arlene Drive to the north, North Normandy Boulevard to the west and south, and Fitzpatrick Terrace to the east | None | *65 | City of Deltona.
Ponding Area 14 | Ponding area bounded by North Fairbanks Drive to the north, East Firwood Drive to the west, Arlene Drive to the south, and Banbury Avenue to the east | None | *88 | City of Deltona.
Ponding Area 15 | Ponding area bounded by I-4 to the north and west, Sullivan Street to the south, and Galveston Avenue to the east | None | *32 | City of Deltona.
Ponding Area 16 | Ponding area bounded by North Gloria Drive to the north, Galveston Avenue to the west, Antelope Drive to the south, and East Gloria Drive to the east | None | *38 | City of Deltona.
Ponding Area 17 | Ponding area bounded by Applegate Terrace to the north, East Gloria Drive to the west and south, and North Normandy Boulevard to the east | None | *51 | City of Deltona.
Ponding Area 18 | Ponding area bounded by I-4 to the north and west, Sullivan Street to the south, and Galveston Avenue to the east | None | *40 | City of Deltona.
Ponding Area 19 | Ponding area bounded by Geraldine Drive to the north and east, Apricot Drive to the west, and Gondolier Terrace to the south | None | *38 | City of Deltona.
Ponding Area 20 | Ponding area bounded by Gallagher Avenue to the north and west, Sullivan Street to the south, and East Gloria Drive to the east | None | *51 | City of Deltona.
Ponding Area 21 | Ponding area bounded by I-4 to the north and west, Rockford Street to the south, and West Parkton Drive to the east | None | *34 | City of Deltona.
Ponding Area 22 | Ponding area bounded by I-4 to the north and west, Sullivan Street to the south, and Galveston Avenue to the east | None | *40 | City of Deltona.
Ponding Area 23 | Ponding area bounded by Gallagher Avenue to the north and west, Sullivan Street to the south, and East Gloria Drive to the east | None | *43 | City of Deltona.
Ponding Area 24 | Ponding area bounded by Sullivan Street to the north, East Parkton Drive to the west, South Anchor Drive to the south, and East Anchor Drive to the east | None | *43 | City of Deltona.
Ponding Area 25 | Ponding area bounded by Gainsboro Street to the north, East Anchor Drive to the west, Elwood Street to the south, and Dupont Court to the east | None | *53 | City of Deltona.
Ponding Area 26 | Ponding area bounded by North Goodrich Drive to the north, Escobar Avenue to the west, South Glancy Drive to the south, and East Glancy Drive to the east | None | *37 | City of Deltona.
Ponding Area 27 | Ponding area bounded by Leland Drive to the north and west, Fisher Drive to the south, and Providence Boulevard to the east | None | *31 | City of Deltona.
Ponding Area 28 | Ponding area bounded by Providence Boulevard to the north and west, Grapewood Street to the south, and Chestnut Court to the east | None | *39 | City of Deltona.
Ponding Area 29 | Ponding area bounded by Leland Drive to the north, Coventry Estates Boulevard to the west, Debary Avenue to the south, and Monarco Avenue to the east | None | *34 | City of Deltona, Unincorporated Areas of Volusia County.
Ponding Area 30 | Ponding area bounded by Beckwith Street to the north, Coachman Drive to the west, Bentley Court to the south, and Courtland Boulevard to the east | None | *47 | City of Deltona.
Ponding Area 31 | Ponding area bounded by Captain Drive to the north, Parma Drive to the west, Lake Helen Osteen Road to the south, and Snow Drive to the east | None | *28 | City of Deltona.
Ponding Area 32 | Ponding area bounded by Yorkshire Drive to the north and west, Catalina Boulevard to the south, and Lake Helen Osteen Road to the east | None | *36 | City of Deltona.
Ponding Area 33 | Ponding area bounded by Coventry Street to the north, Courtland Boulevard to the west, Riverhead Drive to the south, and Jewel Avenue to the east | None | *51 | City of Deltona.
Ponding Area 34 | Ponding area bounded by Riverhead Drive to the north, Courtland Boulevard to the west, Laredo Drive to the south, and East Dorchester Drive to the east | None | *51 | City of Deltona, Unincorporated Areas of Volusia County.
Ponding Area 35 | Ponding area bounded by Elkcam Boulevard to the north, East Cooper Drive to the west, Beechdale Drive to the south, and Eden Drive to the east | None | *28 | City of Deltona.
Ponding Area 36 | Ponding area bounded by Tivoli Drive to the north, Lydia Drive to the west, Fergason Avenue to the south, and Providence Boulevard to the east | None | *49 | City of Deltona.
Ponding Area 37 | Ponding area bounded by Lake Helen Osteen Road to the north, Center Road to the west, Howland Boulevard to the south, and Austin Avenue to the east | None | *28 | City of Deltona.
Ponding Area 38 | Ponding area bounded by Newmark Drive to the north, Cofield Drive to the west, Conyers Court to the south, and Amboy Drive to the east | None | *28 | City of Deltona.
Ponding Area 39 | Ponding area bounded by Clewiston Street to the north, Etta Circle to the west, Hallow Drive to the south, and Courtland Boulevard to the east | None | *23 | City of Deltona.
Ponding Area 40 | Ponding area bounded by Montcalm Street to the north, Gage Avenue to the west, Goldenhills Street to the south, and Clarion Circle to the east | None | *26 | City of Deltona.
Ponding Area 41 | Ponding area bounded by Alexander Avenue to the north and east, Providence Boulevard to the west, and Grapewood Street to the south | None | *69 | City of Deltona.
Ponding Area 42 | Ponding area bounded by Doyle Road to the north, Braddock Road to the west and south, and West Harbor Drive to the east | None | *42 | City of Deltona, Unincorporated Areas of Volusia County.
Ponding Area 43 | Ponding area bounded by Lake Helen Osteen Road to the north and east, Sixma Road to the west, and Yorkshire Drive to the south | None | *34 | City of Deltona, Unincorporated Areas of Volusia County.
Ponding in the vicinity of Angela Lake, Dupont Lake, Lake Butler, Louise Lake, and Theresa Lake | Ponding area bounded by Howland Boulevard to the north and east, Providence Boulevard to the west, and Doyle Road to the south | None | *28 | City of Deltona, Unincorporated Areas of Volusia County.
Theresa Lake | Entire shoreline | None | *28 | City of Deltona.
Three Island Lakes | Entire shoreline | None | *28 | City of Deltona, Unincorporated Areas of Volusia County.
Trout Lake | Entire shoreline | None | *26 | City of Deltona.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Deltona
Maps are available for inspection at the Department of Developmental Services, 777 Deltona Boulevard, Deltona, FL 32725.
Unincorporated Areas of Volusia County
Maps are available for inspection at the Volusia County Office of Growth Management, 123 West Indiana Avenue, DeLand, FL 32720.

(Catalog of Federal Domestic Assistance No. 97.022, “Flood Insurance.”)

Dated: September 13, 2010.
Sandra K. Knight,
Deputy Federal Insurance and Mitigation Administrator, Mitigation, Department of Homeland Security, Federal Emergency Management Agency.

[FR Doc. 2010-24146 Filed 9-24-10; 8:45 am]

BILLING CODE 9110-12-P